FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
July 1, 2013 thru July 31, 2013
07/02/2013
20130973 | G | IHS Inc.; R.L. Polk & Co.; IHS Inc.
20130994 | G | Marubeni Corporation; Aircastle Limited; Marubeni Corporation.
20130995 | G | Atlas Resource Partners, L.P.; EPE Acquisition, LLC; Atlas Resource Partners, L.P.
20131004 | G | BreitBurn Energy Partners L.P.; Whiting Petroleum Corporation; BreitBum Energy Partners L.P.
20131009 | G | Dr. Hansjorg Wyss; NovoCure Limited; Dr. Hansjorg Wyss.
07/03/2013
20130947 | G | Barnabas Health, Inc.; Liberty HealthCare System, Inc.; Barnabas Health, Inc.
20130980 | G | Scout Capital Partners II, L.P.; Tim Hortons Inc.; Scout Capital Partners II, L.P.
20130989 | G | General Atlantic Partners 93, L.P.; Exel Partners LLC; General Atlantic Partners 93, L.P.
07/05/2013
20130544 | G | Flowers Foods, Inc.; Hostess Brands, Inc.; Flowers Foods, Inc.
20130988 | G | Cash America International, Inc.; Todd C. Behringer; Cash America International, Inc.
07/08/2013
20131007 | G | Ginsoma Family C.V.; Frank's International C.V.; Ginsoma Family C.V.
20131008 | G | General Electric Company; RKI Exploration & Production, LLC; General Electric Company.
20131010 | G | Arch Capital Group Ltd.; PMT Mortgage Insurance Co.; Arch Capital Group Ltd.
20131013 | G | Bain Capital Fund X, L.P.; Billy L. Brown, Jr.; Bain Capital Fund X, L.P.
20131030 | G | Worthington Industries, Inc.; Wuhan Iron and Steel (Group) Corporation; Worthington Industries, Inc.
07/09/2013
20131002 | G | Outerwall Inc,; ecoATM, Inc.; Outerwall Inc,
20131037 | G | Canfor Corporation; Gulf Lumber Company, Inc.; Canfor Corporation.
20131038 | G | Canfor Corporation; Scotch Lumber Company, Inc.; Canfor Corporation.
07/10/2013
20131031 | G | LIXIL Group Corporation; Sun Capital Partners V, L.P.; LIXIL Group Corporation.
07/11/2013
20131016 | G | Apollo Investment Fund VII, L.P.; ALEKS Corporation; Apollo Investment Fund VII, L.P.
07/12/2013
20130983 | G | EMCOR Group, Inc.; ArcLight Energy Partners Fund III, L.P.; EMCOR Group, Inc.
20130997 | G | VEPF IV MV I, L.P.; EHS Holdings, Inc.; VEPF IV MV I, L.P.
20131043 | G | Welsh, Carson Anderson & Stowe XI, L.P.; Warburg Pincus Private Equity VIII, L.P.; Welsh, Carson Anderson & Stowe XI, L.P.
20131044 | G | KKR North American Fund XI, L.P.; Genstar Capital Partners V, L.P.; KKR North American Fund XI, L.P.
20131046 | G | Avista Capital Partners III, L.P.; The Resolute Fund II, L.P.; Avista Capital Partners III, L.P.
20131047 | G | Thoma Bravo Fund X, L.P.; Intuit Inc.; Thoma Bravo Fund X, L.P.
20131048 | G | Jay W. Cleveland, Jr.; Caterpillar, Inc.; Jay W. Cleveland, Jr.
20131049 | G | Par Petroleum Corporation; Tesoro Corporation; Par Petroleum Corporation.
07/15/2013
20131032 | G | Isolde GP Acquisition S.C.A.; EQT V (No. 1) Limited Partnership; Isolde GP Acquisition S.C.A.
20131039 | G | Merck & Co., Inc.; Perseus Partners VII, L.P.; Merck & Co., Inc.
20131054 | G | LSF VIII International Finance, L.P.; Lafarge S.A.; LSF VIII International Finance, L.P.
07/16/2013
20131019 | G | Nippon Telegraph and Telephone Corporation; Solutionary, Inc.; Nippon Telegraph and Telephone Corporation.
20131050 | G | LG Crane LLC; Crane & Co., Inc.; LG Crane LLC.
07/17/2013
20131056 | G | Third Avenue Trust; Cavco Industries, Inc.; Third Avenue Trust
07/18/2013
20131052 | G | Aspect Software Group Holdings Ltd.; Voxeo Corporation; Aspect Software Group Holdings Ltd.
07/19/2013
20130834 | G | General Electric Company; BCV Investments S.C.A.; General Electric Company.
20130992 | G | BioScrip, Inc.; CarePoint Partners Holdings LLC; BioScrip, Inc.
20131036 | G | Nicholas S. Schorsch; Lovell Minnick Equity Partners III LP; Nicholas S. Schorsch.
20131041 | G | Thoma Bravo Fund X, L.P.; Keynote Systems, Inc.; Thoma Bravo Fund X, L.P.
20131061 | G | Accenture plc; Monitor Clipper Equity Partners III, L.P.; Accenture plc.
07/22/2013
20131017 | G | Berkshire Hathaway Inc.; NV Energy, Inc.; Berkshire Hathaway Inc.
20131062 | G | KSTW Holdings, Inc.; Steinway Musical Instruments, Inc.; KSTW Holdings, Inc.
20131063 | G | Quad-C Partners VIII, L.P.; Worldwide Express Holdings, LLC; Quad-C Partners VIII, L.P.
20131067 | G | WP Horizon Topco LLC; Marketing Werks, Inc.; WP Horizon Topco LLC.
07/23/2013
20131051 | G | Novo Nordisk Foundation; Ophthotech Corporation; Novo Nordisk Foundation.
20131055 | G | Rangers Renal Holdings LP; Lindsay Goldberg & Bessemer II L.P.; Rangers Renal Holdings LP.
07/24/2013
20131070 | G | Koch Industries, Inc.; Roland J. Fagen; Koch Industries, Inc.
07/25/2013
20131057 | G | RoundTable Healthcare Partners III, L.P.; Levine Leichtman Capital Partners IV, L.P.; RoundTable Healthcare Partners III, L.P.
20131064 | G | Madison Dearborn Capital Partners VI-A, L.P.; IPC/Packaging LLC; Madison Dearborn Capital Partners VI-A, L.P.
07/26/2013
20131045 | G | Alexander & Baldwin, Inc.; GPC Holdings, Inc.; Alexander & Baldwin, Inc.
20131071 | G | Tribune Company; Local TV Holdings, LLC; Tribune Company.
20131072 | G | ALS Limited; SCF-VI, L.P.; ALS Limited.
20131077 | G | Riverstone Global Energy and Power Fund V (FT), L.P.; Devon Energy Corporation; Riverstone Global Energy and Power Fund V (FT), L.P.
20131078 | G | Marathon Petroleum Corporation; The Andersons Clymers Ethanol LLC; Marathon Petroleum Corporation.
20131080 | G | Precision Castparts Corp.; Exacta Aerospace, Inc.; Precision Castparts Corp.
20131083 | G | Parthenon Investors IV, L.P.; Express Scripts Holding Company; Parthenon Investors IV, L.P.
20131085 | G | XPO Logistics, Inc.; Logistics Holding Company Limited; XPO Logistics, Inc.
20131088 | G | NGL Energy Partners LP; Mark Cuban; NGL Energy Partners LP.
07/29/2013
20131040 | G | Tenet Healthcare Corporation; Vanguard Health Systems, Inc.; Tenet Healthcare Corporation.
20131068 | G | Fred Howe; SS MCP Holdings, LLC; Fred Howe.
07/31/2013
20131020 | G | Lowe's Companies, Inc.; Orchard Supply Hardware Stores Corporation; Lowe's Companies, Inc.

FOR FURTHER INFORMATION CONTACT:

Renee Chapman, Contact Representative; or

Theresa Kingsberry, Legal Assistant; Federal Trade Commission, Premerger Notification Office, Bureau of Competition, Room H-303, Washington, DC 20580, (202) 326-3100.

By Direction of the Commission.
Donald S. Clark,
Secretary.

[FR Doc. 2013-19555 Filed 8-14-13; 8:45 am]

BILLING CODE 6750-01-M